DEPARTMENT OF COMMERCE

National Oceanic and Atmospheric Administration

[RTID 0648-XE439]

Caribbean Fishery Management Council 185th Public Hybrid Meeting

AGENCY: National Marine Fisheries Service (NMFS), National Oceanic and Atmospheric Administration (NOAA), Commerce.

ACTION: Notice of public hybrid meeting (in-person/virtual).

SUMMARY: The Caribbean Fishery Management Council (CFMC) will hold the 185th public hybrid meeting to address the items contained in the tentative agenda included in the SUPPLEMENTARY INFORMATION.

DATES: The 185th CFMC public hybrid meeting will be held on December 4-5, 2024, from 9 a.m. to 4:30 p.m., AST. A closed session will be held on December 4, 2024, from 4:45 p.m. to 5:15 p.m., AST, to discuss personnel matters. The Council will reconvene on December 5, 2024, from 9 a.m. to 4:30 p.m., AST.

ADDRESSES: The meeting will be held at Embassy Suites Hotel, Tartak Street, Carolina, Puerto Rico.

You may join the 185th CFMC public hybrid meeting via Zoom, from a computer, tablet or smartphone by entering the following address:

Join Zoom Meeting: https://us02web.zoom.us/j//83060685915?pwd=VmVsc1orSUtKck8xYk1XOXN/DY1ErZz09

Meeting ID: 830 6068 5915

Passcode: 995658

One tap mobile: 17879451488,,83060685915#,,,,,,0#,,995658# Puerto Rico, 17879667727,,83060685915#,,,,,,0#,,995658# Puerto Rico

Dial by your location: 1 787 945 1488 Puerto Rico; 1 787 966 7727 Puerto Rico; 1 939 945 0244 Puerto Rico

Meeting ID: 830 6068 5915

Passcode: 995658

In case there are problems, and we cannot reconnect via Zoom, the meeting will continue using GoToMeeting.

You can join the meeting from your computer, tablet, or smartphone at https://global.gotomeeting.com/join/971749317. You can also dial in using your phone. United States: 1 (408) 650-3123 Access Code: 971-749-317.

FOR FURTHER INFORMATION CONTACT: Miguel A. Rolón, Executive Director, Caribbean Fishery Management Council, 270 Muñoz Rivera Avenue, Suite 401, San Juan, Puerto Rico 00918-1903; telephone: (787) 398-3717.

SUPPLEMENTARY INFORMATION: The following items included in the tentative agenda will be discussed:

December 4, 2024

9 a.m.-9:30 a.m.

—Call to Order

—Roll Call

—Election of Officials

—Adoption of Agenda

—Consideration of 184th Council Meeting Verbatim Transcriptions

—Executive Director's Report

9:30 a.m.-10:15 a.m.

—Update NMFS/Council Actions and IBFMP Amendments—María López-Mercer, NOAA Fisheries/Southeast Regional Office (SERO)

10:15 a.m.-10:30 a.m.

—Break

10:30 a.m.-11:30 a.m.

—Review and Final Action for Framework Amendment 3 to USVI Queen Triggerfish Framework Action to Establish Management Reference Points Based on SEDAR 80—Sarah Stephenson, NOAA Fisheries/Southeast Regional Office (SERO)

11:30 a.m.-12 p.m.

—2024 Annual Catch Limits and Overfishing Monitoring—Puerto Rico Spiny Lobster Allowable Catch Limit (ACL) Overage and Overfishing Determination—NOAA Fisheries/Southeast Regional Office

12 p.m.-1:30 p.m.

—Lunch Break

1:30 p.m.-1:50 p.m.

—Community Climate Change Vulnerability Project for U.S. Caribbean—Tarsila Seara, NOAA Fisheries, Northeast Regional Office

1:50 p.m.-2:30 p.m.

—Review and Final action—Amendment 4 to the Puerto Rico FMP: Reclassification of the Rainbow Runner as a Pelagic Fish—María López-Mercer, NOAA Fisheries/Southeast Regional Office (SERO)

2:30 p.m.-2:50 p.m.

—Scientific and Statistical Committee Report—Vance Vicente

2:50 p.m.-3:20 p.m.

—Protected Resources Division Update—Jennifer Lee, NOAA Fisheries/Southeast Regional Office (SERO)

3:20 p.m. -3:30 p.m.

—Break

3:30 p.m.-4 p.m.

—Safe Fishing Zones—Carlos Farchette, CFMC Chair

4 p.m.-4:30 p.m.

—Public Comment Period

4:30 p.m.

—Adjourn for the Day

4:45 p.m.-5:15 p.m.

—Closed Session

December 5, 2024

9 a.m.-9:30 a.m.

—NOAA Fisheries Actions—Sam Rauch, Deputy Assistant Administrator for Regulatory Programs, NOAA Fisheries

—Confidentiality Rule Update

—Council on Environmental Quality NEPA Regulations

—America the Beautiful 30 x 30

—ESA/MSA Integration Policy Draft

9:30 a.m.-10 a.m.

—Southeast Fisheries Science Center Update—Kevin McCarthy, NOAA Fisheries

—Survey of Stakeholder Priorities for Caribbean Fisheries Management

10 a.m.-10:15 a.m.

—Outcomes from WECAFC Flying Fish Dolphinfish Working Group Meeting and WECAFC Spawning Aggregations Working Group Meeting—Laura Cimo, NOAA Fisheries, The Office of International Affairs, Trade, and Commerce

10:15 a.m.-10:30 a.m.

—Break

10:30 a.m.-11:15 a.m.

—Outreach and Education Report—Alida Ortiz

—Liaison Officers Descending Devices July Meeting Report—Wilson Santiago/Nicole Greaux

—Social Networks Report—Cristina Olán

—Chefs' Workshop on Underutilized Species—Jannette Ramos

11:15 a.m.-11:30 a.m.

—Lionfish Derby Report—Mike Funk

11:30 a.m.-12 p.m.

—Exempted Fishing Permit (EFP) Update—Sarah Stephenson, NOAA Fisheries/Southeast Regional Office (SERO)

12 p.m.-1:30 p.m.

—Lunch Break

1:30 p.m.-2 p.m.

—Aging of Spiny Lobster Study—Ana Medina, University of Puerto Rico at Mayagüez

2 p.m.-2:30 p.m.

—EBFM TAP Update—Sennai Habtes, EBFM TAP Chair and Liajay Rivera, CFMC Staff

2:30 p.m.-3:30 p.m.

—Enforcement Reports (15-minutes each)

—Puerto Rico—DNER

—USVI—DPNR

—NOAA Fisheries/OLE

—U.S. Coast Guard—CG Requirements for Caribbean Vessels

3:30 p.m.-3:40 p.m.

—Break

3:40 p.m.-3:50 p.m.

—Advisory Bodies Membership

3:50 p.m.-4 p.m.

—Other Business

4 p.m.-4:30 p.m.

—Public Comment Period (5-minute presentations)

—Next Meeting

—Adjourn

Note (1): Other than starting time and dates of the meetings, the established times for addressing items on the agenda may be adjusted as necessary to accommodate the timely completion of discussion relevant to the agenda items. To further accommodate discussion and completion of all items on the agenda, the meeting may be extended from or completed before the date established in this notice. Changes in the agenda will be posted to the CFMC website, Facebook, Twitter and Instagram as practicable.

Note (2): Financial disclosure forms are available for inspection at this meeting, as per 50 CFR part 601.

The order of business may be adjusted as necessary to accommodate the completion of agenda items. The meeting will begin on December 4, 2024, at 9 a.m. AST, and will end on December 5, 2024, at 4:30 p.m., AST. Other than the start time on the first day of the meeting, interested parties should be aware that discussions may start earlier or later than indicated in the agenda, at the discretion of the Chair.

Special Accommodations

For any additional information on this public hybrid meeting, please contact Diana Martino, Caribbean Fishery Management Council, 270 Muñoz Rivera Avenue, Suite 401, San Juan, Puerto Rico, 00918-1903, telephone: (787) 226-8849.

Authority: 16 U.S.C. 1801 et seq.

Dated: November 15, 2024.
Rey Israel Marquez,
Acting Deputy Director, Office of Sustainable Fisheries, National Marine Fisheries Service.

[FR Doc. 2024-27100 Filed 11-19-24; 8:45 am]

BILLING CODE 3510-22-P